DEPARTMENT OF THE TREASURY

Internal Revenue Service

26 CFR Parts 1 and 31

[REG-155608-02]

RIN 1545-BB64

Revised Regulations Concerning Section 403(b) Tax-Sheltered Annuity Contracts; Correction

AGENCY: Internal Revenue Service (IRS), Treasury.

ACTION: Correction to notice of proposed rulemaking and notice of proposed rulemaking by cross-reference to temporary regulations.

SUMMARY: This document corrects a notice of proposed rulemaking and notice of proposed rulemaking by cross-reference to temporary regulations (REG-155608-02) that was published in the Federal Register on Tuesday, November 16, 2004 (69 FR 67075). The proposed regulations provide updated guidance on section 403(b) contracts of public schools and tax-exempt organizations described in section 501(c)(3).

FOR FURTHER INFORMATION CONTACT: R. Lisa Mojiri-Azad or John Tolleris at (202) 622-6060 (not a toll-free number).

SUPPLEMENTARY INFORMATION:

Background

The notice of proposed rulemaking and notice of proposed rulemaking by cross reference to temporary regulations (REG-155608-02) that is the subject of this correction are under sections 403(b) of the Internal Revenue Code, and under related provisions of sections 402(b), 402(g), 414(c), and 3121(a)(5)(D).

Need for Correction

As published, the notice of proposed rulemaking and notice of proposed rulemaking by cross reference to temporary regulations REG-155608-02) contains errors that may prove to be misleading and are in need of clarification.

Correction of Publication

Accordingly, the notice of proposed rulemaking and notice of proposed rulemaking by cross reference to temporary regulations (REG-155608-02), which was the subject of FR Doc. 04-25237 is corrected as follows:

1. On page 67082, column 2, in the preamble, under the paragraph heading “Commingling Assets”, line 8, the language “account to be treated as a tax exempt.” is corrected to read “account to be treated as a tax exempt organization.”.

§ 1.403(b)-8 [Corrected]

2. On page 67096, column 3, § 1.403(b)-8, paragraph (d)(2)(ii), line 4, the language “account) § 1.403(b)-6(d) are satisfied” is corrected to read “account) and § 1.403(b)-6(d) are satisfied”.

3. On page 67096, column 3, § 1.403(b)-8, paragraph (d)(3), line 4, the language “includes any assets that other than stock” is corrected to read “includes any assets other than stocks”.

§ 1.414(c)-5 [Corrected]

4. On page 67099, column 3, § 1.414(c)-5, paragraph (d), line 7, the language under the nursing home may be under” is corrected to read “the nursing home may be under”.

Cynthia E. Grigsby,
Acting Chief, Publications and Regulations Branch, Legal Processing Division, Associate Chief Counsel, (Procedures and Administration).

[FR Doc. 04-27918 Filed 12-20-04; 8:45 am]

BILLING CODE 4830-01-P